DEPARTMENT OF ENERGY

Federal Energy Regulatory Commission

[Docket No. CP17-9-000]

ANR Pipeline Company; Notice of Schedule for Environmental Review of the Wisconsin South Expansion Project

On November 3, 2016, ANR Pipeline Company (ANR), filed an application in Docket No. CP17-9-000 requesting a Certificate of Public Convenience and Necessity pursuant to Section 7(c) and 7(b) of the Natural Gas Act to modify five existing facilities on ANR's Pipeline System. The proposed project is known as the Wisconsin South Expansion Project (Project), and consists of modifying and abandoning facilities in Illinois and Wisconsin to enable ANR to expand delivery by 230,950 dekatherms per day (Dth/d) into the Northern Illinois and Wisconsin market areas.

On November 16, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: April 27, 2017

90-day Federal Authorization Decision Deadline: July 26, 2017

If a schedule change becomes necessary, additional notice will be provided so that the relevant agencies are kept informed of the Project's progress.

Project Description

The Project would add an additional capacity of 230,950 Dth/d on ANR's system and consist of the modification of the following facilities: Install one new 6,130-horsepower (HP) Solar Centaur 50 compressor unit at the existing Sandwich Compressor Station in Kendall County, Illinois; increase capacity of the existing Hampshire Meter Station in Kane County, Illinois from the current 304,475 Dth/d to approximately 507,458 Dth/d; replace the existing 0.54-mile-long Line 332 Lateral located in Kane County, Illinois; increase capacity of the existing Tiffany East Meter Station in Rock County, Wisconsin from the current 119,760 Dth/d to approximately 240,535 Dth/d; and re-stage an existing Saturn 10 turbine compressor unit at the Kewaskum Compressor Station in Sheboygan County, Wisconsin.

Background

On November 29, 2016, the Commission issued a Notice of Intent to Prepare an Environmental Assessment for the Proposed Wisconsin South Expansion Project and Request for Comments on Environmental Issues (NOI). The NOI was sent to affected landowners; federal, state, and local government agencies; elected officials; environmental and public interest groups; Native American tribes; other interested parties; and local libraries and newspapers. In response to the NOI, the Commission received three comments from citizens supporting the Project. We also received comments from the Miami Tribe of Oklahoma and the Illinois Historic Preservation Agency, indicating that they do not object to the Project. Finally, we received a comment letter from the U.S. Fish and Wildlife Service stating that the EA should fully disclose the impacts on federally listed species, migratory birds, and wildlife habitat.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP17-9-000), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: February 2, 2017.
Kimberly D. Bose,
Secretary.

[FR Doc. 2017-02653 Filed 2-8-17; 8:45 am]

BILLING CODE 6717-01-P